SMALL BUSINESS ADMINISTRATION

[Declaration of Economic Injury Disaster #9H11]

State of Hawaii

The City and County of Honolulu, Hawaii constitutes an economic injury disaster loan area as a result of a rockslide that occurred on March 6, 2000 and closed the Kamehameha Highway. Eligible small businesses and small agricultural cooperatives without credit available elsewhere may file applications for economic injury assistance as a result of this disaster until the close of business on January 17, 2001, at the address listed below or other locally announced locations: U.S. Small Business Administration, Disaster Area 4 Office, P.O. Box 13795, Sacramento, CA 95853-4795.

The interest rate for eligible small businesses and small agricultural cooperatives is 4 percent. The economic injury number for this disaster is 9H1100.

(Catalog of Federal Domestic Assistance Program No. 59002.)

Dated: April 17, 2000.
Aida Alvarez,
Administrator.

[FR Doc. 00-10195 Filed 4-21-00; 8:45 am]

BILLING CODE 8025-01-P